DEPARTMENT OF LABOR

Employment and Training Administration

[TA-W-64,207]

Delphi Corporation, Electronics and Safety Division, Including On-Site Leased Workers From Bartech, Manpower Professional and TRC (Transportation Research Center, Inc.), Vandalia, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on October 22, 2008, applicable to workers of Delphi Corporation, Electronics and Safety Division, Vandalia, Ohio. The notice was published in the Federal Register on November 10, 2008 (73 FR 66676).

At the request of the State agency, the Department reviewed the certification for workers of the subject firm. The workers are engaged in the production of door modules, instrument panels, airbags, steering wheels, and power products.

New information shows that workers leased from Bartech, Manpower Professional and TRC (Transportation Research Center, Inc.) were employed on-site at the Vandalia, Ohio location of Delphi Corporation, Electronics and Safety Division. The Department has determined that these workers were sufficiently under the control of the subject firm to be considered leased workers.

Based on these findings, the Department is amending this certification to include workers leased from Bartech, Manpower Professional and TRC (Transportation Research Center, Inc.) working on-site at the Vandalia, Ohio location of the subject firm.

The intent of the Department's certification is to include all workers employed at Delphi Corporation, Electronics and Safety Division who were adversely affected by increased imports following a shift in production of door modules, instrument panels, airbags steering wheels and power products to Mexico.

The amended notice applicable to TA-W-64,207 is hereby issued as follows:

“All workers of Delphi Corporation, Electronics and Safety Division, including on-site leased workers from Bartech, Manpower Professional and TRC (Transportation Research Center, Inc.), Vandalia, Ohio, who became totally or partially separated from employment on or after September 24, 2007, through October 22, 2010, are eligible to apply for adjustment assistance under Section 223 of the Trade Act of 1974, and are also eligible to apply for alternative trade adjustment assistance under Section 246 of the Trade Act of 1974.”

Signed at Washington, DC, this 18th day of November 2008.
Elliott S. Kushner,
Certifying Officer, Division of Trade Adjustment Assistance.

[FR Doc. E8-28350 Filed 11-28-08; 8:45 am]

BILLING CODE 4510-FN-P